DEPARTMENT OF LABOR

Employment and Training Administration

Notice for Request for Nominations

AGENCY: Employment and Training Administration, U.S. Department of Labor.

ACTION: Notice of Advisory Council Member Call for Nominations.

SUMMARY: The Department of Labor is requesting a total of six nominations for appointment to the Native American Employment and Training Council (NAETC) for consideration.

Background: The NAETC is a non-discretionary committee with the purpose of advising the Secretary on all aspects of the operation and administration of the Workforce Investment Act (WIA) Section 166 program. This includes the selection of the individual appointed as the head of the unit established at the Department of Labor by the Secretary to administer the Section 166 programs. The head of this unit, or his/her designee, will serve as the Designated Federal Official (DFO) for the NAETC. The current NAETC Charter was renewed for two years, effective September 9, 2013. The charter provides for the NAETC to be composed of no less than 15 members appointed by the Secretary pursuant to WIA Section 166(h)(4)(B), who are representatives of the Indian tribes, tribal organizations, Alaska native entities, Indian-controlled organizations serving Indians, or Native Hawaiian organizations.

DATES: The Department must receive nominations by no later than 31 calendar days, excluding any Federal holidays, from the date of this notice. A copy of the NAETC Nomination, Self-Certification, and Nomination Acceptance Forms can be obtained by accessing the Division of Indian and Native American Programs' Web site at http://www.doleta.gov/dinap/.

ADDRESSES: All nominations for the NAETC should be sent electronically to Lewis.Craig@dol.gov, faxed to (202) 693-3817, or mailed to U.S. Department of Labor Indian and Native American Programs, Employment and Training Administration, 200 Constitution Avenue NW., Room S-4209, Washington, DC 20210, Attention: Mr. Craig Lewis, Designated Federal Officer.

SUPPLEMENTARY INFORMATION: The Secretary is seeking a total of six representatives to join the NAETC to advise the Secretary of Labor on all aspects of the operation and administration of the Indian and Native American programs authorized under Section 166 under WIA. Two of the representatives will provide expertise in “other disciplines” representing the areas of business and entrepreneurship, economic development, secondary and post-secondary education (including Tribal Colleges), health care, and Veteran services. The Secretary also is seeking nominations for a representative from the Employment and Training Administration Region 5, Chicago (which includes NE, KS, MO, IA, MN, WI, IL, IN MI, and OH), a representative from Employment and Training Administration Region 2, Philadelphia (which includes PA, WV, DE, and VA), one nomination for a representative of Oklahoma and one nomination for a representative from Hawaii. The NAETC's charter provides that, to the extent practicable, all geographic areas of the United States with a substantial Indian, Alaska Native, or Native Hawaiian population shall be represented on the NAETC.

Membership Qualifications: The Federal Advisory Committee Act regulations at 41 CFR 102-3.30(c) require advisory committees to have a balanced membership in terms of the points of view represented and the functions to be performed. Factors to be considered in achieving such a membership depend upon several elements, including the vision and mission of the Secretary. All nominees to the NAETC must be representatives of Indian Tribes, Tribal organizations, Alaska Native entities, Indian-controlled organizations serving Indians, or Native Hawaiian organizations, as required in WIA, Section 166(h)(4)(B). In nominating “other discipline” representatives, the factors described above must be considered.

Members shall serve at the pleasure of the Secretary for a two year term designated by the Secretary in writing. In Region 2, the Secretary may consider nominations for appointment to the NAETC as submitted by Section 166 grantees from that region only. In Region 5, the Secretary may consider nominations for appointment to the NAETC as submitted by Section 166 grantees from that region only. The Department will accept nominations from all grantees, including Public Law 102-477 grantees, to fill seats on the NAETC representing the two “other discipline” memberships. Indian tribes and Indian, Alaskan Native, and Native Hawaiian organizations that do not administer a Section 166 grant also may submit nominations for these two “other disciplines” memberships.

In submitting nominations, consider the availability of the nominee to attend and actively participate in NAETC meetings (a minimum of two meetings annually), serve on NAETC workgroups, and provide feedback to the grantee community. Members of the NAETC shall serve without compensation and shall be allowed travel expenses, including per diem in lieu of subsistence, as authorized by Section 166(h)(4)(D)(ii) of WIA. Communication between NAETC member and his or her constituency is essential to the partnership between the Department and the Indian and Native American community.

FOR FURTHER INFORMATION CONTACT: Mr. Craig Lewis, DFO, Division of Indian and Native American Programs, Employment and Training Administration, U.S. Department of Labor, Room S-4209, 200 Constitution Avenue Northwest, Washington, DC 20210. Telephone number (202) 693-3384 (VOICE) (this is not a toll-free number).

Authority: Pursuant to Section 10(a)(2) of the Federal Advisory Committee Act (FACA) (Pub. L. 92-463), as amended, and Section 166(h)(4) of the Workforce Investment Act (WIA) [29 U.S.C. 2911(h)(4)].

Portia Wu,
Assistant Secretary for Employment and Training Administration, Labor.

[FR Doc. 2014-13571 Filed 6-10-14; 8:45 am]

BILLING CODE 4501-FR-P